DEPARTMENT OF DEFENSE

Department of the Army; Corps of Engineers

Request for Comments on the Notice of Intent To Prepare a Draft Environmental Impact Statement for the Skagit River General Investigation Study (Previously Advertised as the Skagit River Flood Damage Reduction Study), Skagit County, WA

AGENCY: Department of the Army, Army Corps of Engineers, DoD.

ACTION: Extension of comment period.

SUMMARY: The Corps of Engineers is extending the comment period for the Notice of Intent (NOI) to prepare a Draft Environmental Impact Statement for the Skagit River General Investigation Study (previously advertised as the Skagit River Flood Damage Reduction Study), Skagit County, Washington. This extension will provide interested persons with additional time to prepare comments on the NOI.

DATES: Consideration will be given only to comments that are received on or before September 9, 2011.

ADDRESSES: Comments on the proposed project should be sent to: Hannah Hadley, Study Environmental Coordinator, Seattle District, U.S. Army Corps of Engineers, P.O. 3755, Seattle, WA 98124-3755, Attn: CENWS-PM-ER; telephone (206) 764-6950; fax (206) 764-4470; or e-mail Hannah.F.Hadley@usace.army.mil.

FOR FURTHER INFORMATION CONTACT: General questions concerning the proposed action and the DEIS can be directed to: Hannah Hadley, Study Environmental Coordinator (see ADDRESSES) or Daniel Johnson, Project Manager, Seattle District, U.S. Army Corps of Engineers, P.O. 3755, Seattle, WA 98124-3755, ATTN: CENWS-EN-CM-CJ; telephone (206) 764-3423; fax (206) 764-4470; or e-mail Daniel.E.Johnson@usace.army.mil.

SUPPLEMENTARY INFORMATION: The NOI to prepare a Draft Environmental Impact Statement for the Skagit River General Investigation Study (previously advertised as the Skagit River Flood Damage Reduction Study), Skagit County, Washington was published in the July 29, 2011 Federal Register (76 FR 45543) for review and comment. Comments regarding the NOI were required to be received on or before August 29, 2011. During the comment period, requests to extend the comment period were received.

In response to these requests, the comment period for the NOI has been extended through September 9, 2011.

Brenda S. Bowen,
Army Federal Register Liaison Officer.

[FR Doc. 2011-22389 Filed 8-31-11; 8:45 am]

BILLING CODE 3720-58-P